DEPARTMENT OF DEFENSE

Department of the Air Force

Notice of Federal Advisory Committee Meeting; Correction

AGENCY: Board of Visitors of the U.S. Air Force Academy (BoV AFA), Department of the Air Force.

ACTION: Notice of Federal advisory committee meeting; correction.

SUMMARY: The Department of Defense (DoD) published a notice in the Federal Register of January 8, 2026, announcing that the following Federal advisory committee meeting of the Board of Visitors of the U.S. Air Force Academy (BoV AFA) will take place. The document contained incorrect times.

SUPPLEMENTARY INFORMATION:

Correction

In the Federal Register of January 7, 2026, in FR Doc. 2026-00135, Docket Number 2026-00135, page 703, in the third column, fourth paragraph, correct the DATES caption to read:

DATES: The meeting is open to the public Thursday, February 5, 2026, from approximately 1:30 p.m. to 4:30 p.m. (Eastern Time). Those wishing to attend in person are requested to submit their name, affiliation, and phone number to USAFA.HQ.BOV@us.af.mil by January 30, 2026. The meeting will be handicap accessible. Seating is available on a first come, first served basis.

Dated January 8, 2026.
Crystle C. Poge,
Air Force Federal Register Liaison Officer.

[FR Doc. 2026-00317 Filed 1-9-26; 8:45 am]

BILLING CODE 3911-44-P